DEPARTMENT OF AGRICULTURE

Submission for OMB Review; Comment Request

September 2, 2004.

The Department of Agriculture has submitted the following information collection requirement(s) to OMB for review and clearance under the Paperwork Reduction Act of 1995, Public Law 104-13. Comments regarding: (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Food and Nutrition Service

Title: Food Stamp Program Application.

OMB Control Number: 0584-0008.

Summary of Collection: Section 9(a) of the Food Stamp Act of 1977 as amended, (7 U.S.C. 2011 et seq.) requires retail food stores and meal services (firms) to submit applications to the Food and Nutrition Service (FNS) for approval prior to participating in the Food Stamp Program. FNS will review the information from forms FNS-252, Food Stamp Program Application for Store, FNS 252-2, Meal Service Application, and FNS-252-C, Corporate Supplemental Application to determine if the applicants meet the eligibility requirements to redeem Food Stamp benefits.

Need and Use of the Information: FNS will use the information during compliance and investigations to determine whether or not retail, wholesale or food service organization continue to meet the requirements and for sanctioning those stores found to be in violation of the program. Owners Employer Identification Numbers (EIN) and Social Security Numbers (SSN) may be disclosed to and used by Federal agencies or instrumentalities that otherwise gave access to EINs and SSNs.

Description of Respondents: Business or other for-profit; not-for-profit institutions; Farms; Federal Government.

Number of Respondents: 48,171.

Frequency of Responses: Third party disclosure; reporting: On occasion.

Total Burden Hours: 4,653.

Sondra Blakey,
Department Information Collection Clearance Officer.

[FR Doc. 04-20383 Filed 9-8-04; 8:45 am]

BILLING CODE 3410-11-P